DEPARTMENT OF HOMELAND SECURITY

Coast Guard

33 CFR Part 117

[Docket No. CGD08-07-022]

Drawbridge Operation Regulations; Milhomme Bayou, Stephensville, LA

AGENCY: Coast Guard, DHS.

ACTION: Notice of temporary deviation from regulations; request for comments.

SUMMARY: The Commander, Eighth Coast Guard District, has issued a temporary deviation from the regulation governing the operation of the Stephensville Bridge across Milhomme Bayou, mile 12.2, at Stephensville, St. Martin Parish, Louisiana. This deviation will test a change to the drawbridge operation schedule to determine whether a permanent change to the schedule is needed. The deviation will allow the draw of the Stephensville Bridge to open on signal if at least one hour of advance notice is given. During the advance notice period, the draw shall open on less than one hour notice for an emergency and shall open on demand should a temporary surge in waterway traffic occur.

DATES: This deviation is effective from October 5, 2007 until April 2, 2008.

ADDRESSES: You may mail comments and related material to Commander (dpb), Eighth Coast Guard District, 500 Poydras Street, New Orleans, Louisiana 70130-3310. The Commander, Eighth Coast Guard District, Bridge Administration Branch maintains the public docket for this rulemaking. Comments and material received from the public, as well as documents indicated in this preamble as being available in the docket, will become part of this docket and will be available for inspection or copying at the Bridge Administration office between 7 a.m. and 3 p.m., Monday through Friday, except Federal holidays.

FOR FURTHER INFORMATION CONTACT: Bart Marcules, Bridge Administration Branch, telephone (504) 671-2128.

SUPPLEMENTARY INFORMATION:

Request for Comments

We encourage you to participate in evaluating this test schedule by submitting comments and related material. If you do so, please include your name and address, identify the docket number for this deviation [CGD08-07-022], indicate the specific section of this document to which each comment applies, and give the reason for each comment. Please submit all comments and related material in an unbound format, no larger than 8 by 11 inches, suitable for copying. If you would like to know they reached us, please enclose a stamped, self-addressed postcard or envelope. We will consider all comments and material received during the comment period. Comments must be received by December 4, 2007.

Background and Purpose

St. Martin Parish has requested that the operating regulation on the Stephensville Bridge be changed in order to operate the bridge more efficiently. The Stephensville Bridge is located on Milhomme Bayou at mile 12.2 in Stephensville, St. Martin Parish, Louisiana. The Bridge has a vertical clearance of 5.8 feet above mean high water, an elevation of 3.5 feet Mean Sea Level (MSL) in the closed position and unlimited in the open position. The Stephensville Bridge opens on signal as required by 33 CFR 117.5. This operating schedule has been in effect since 2002 when this bridge replaced an existing bridge in the area.

The previous bridge's operating schedule was, “shall open on signal; except that, from 10 p.m. to 6 a.m. the draw shall open on signal if at least two hours notice is given. During the advance notice period, the draw shall open on less than two hours notice for an emergency and shall open on demand should a temporary surge in waterway traffic occur.”

Since the completion of the current bridge, the waterway traffic has been minimal and during the past twelve months an average of 5 boats per day have requested an opening. Most of the boats requesting openings are commercial vessels consisting of tugboats with barges and shrimp trawlers that routinely transit this waterway and are able to give advance notice.

Due to this waterway being a secondary route, the Port Allen Alternate route is the primary route, little impact is expected on navigation during this test schedule period. Also, prior coordination with the main waterway user group in the area indicates no expected impacts.

A Notice of Proposed Rule Making [CGD08-07-023], is being issued in conjunction with this Temporary Deviation to obtain public comments. The Coast Guard will evaluate public comments from this Temporary Deviation and the above referenced Notice of Proposed Rule Making to determine if a permanent special drawbridge operating regulation is warranted.

In accordance with 33 CFR 117.35(e), the drawbridge must return to its regular operating schedule immediately at the end of the designated time period. This deviation from the operating regulations is authorized under 33 CFR 117.35.

Dated: September 21, 2007.
David M. Frank,
Bridge Administrator.

[FR Doc. 07-4860 Filed 10-4-07; 8:45 am]

BILLING CODE 4910-15-P